UNITED STATES INSTITUTE OF PEACE

Notice of Meeting

Date/Time: Tuesday, March 16, 2010. 11 a.m.-12 p.m.

Location: 1200 17th Street, NW., Suite 200, Washington, DC 20036-3011.

Status: Board Executive Session—Portions may be closed pursuant to Subsection (c) of section 552(b) of Title 5, United States Code, as provided in subsection I 706(h)(3) of the United States Institute of Peace Act, Public Law 98-525.

Agenda: March 16, 2010 Board Executive Session. Approval of Board Resolutions; Transition discussions.

Contact: Tessie F. Higgs, Executive Assistant, Telephone: (202) 429-3836.

Dated: March 3, 2010.
Tara Sonenshine,
Executive Vice President, United States Institute of Peace.

[FR Doc. 2010-4958 Filed 3-9-10; 8:45 am]

BILLING CODE 6820-AR-P